DEPARTMENT OF AGRICULTURE

Food Safety and Inspection Service

[Docket No. FSIS-2007-0011]

Codex Alimentarius Commission: Meeting of the Codex Committee on Food Labelling

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on April 10, 2007. The objective of the public meeting is to provide information and receive public comments on agenda items and draft United States positions that will be discussed at the Thirty-fifth Session of the Codex Committee on Food Labelling (CCFL) of the Codex Alimentarius Commission (Codex), which will be held in Ottawa, Canada, on April 30-May 4, 2007. The Under Secretary for Food Safety and FDA recognize the importance of providing interested parties the opportunity to obtain background information on the 35th Session of CCFL and to address items on the agenda.

DATES: The public meeting is scheduled for Tuesday, April 10, 2007 from 1 p.m. to 4 p.m.

ADDRESSES: The public meeting will be held in the Room 107A, Jamie Whitten Federal Building, 1200 Independence Ave., SW., Washington, DC 20250. Documents related to the 35th Session of CCFL are accessible via the World Wide Web at the following address: http://www.codexalimentarius.net/current.asp.

The U.S. Delegate to the CCFL, Dr. Barbara Schneeman, invites U.S. interested parties to submit their comments electronically to the following e-mail address: ccfl@fda.hhs.gov.

For Further Information About the 35th Session of CCFL Contact: Dr. Michael Wehr, Center for Food Safety and Applied Nutrition, 5100 Paint Branch Parkway, College Park, MD 20740. Phone (301) 436-1284, Fax: (301) 436-2972, e-mail michael.wehr@fda.hhs.gov.

For Further Information About the Public Meeting Contact: Edith Kennard, International Issues Analyst, U.S. Codex Office, Food Safety and Inspection Service, Room 4861, South Building, 1400 Independence Ave., SW., Washington, DC 20250. Phone (202) 205-7760, Fax: (202) 720-3157.

SUPPLEMENTARY INFORMATION:

Background

The Codex Alimentarius Commission (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex Committee on Food Labelling (CCFL) drafts provisions on labeling applicable to all foods; considers, amends if necessary, and endorses specific provisions on labeling of draft standards, codes of practice, and guidelines prepared by other Codex committees; studies specific labeling problems assigned to it by the Commission; and studies problems associated with the advertisement of food with particular reference to claims and misleading descriptions. The Committee is chaired by Canada.

Issues To Be Discussed at the Public Meeting

The following items on the Agenda for the 35th Session of the CCFL will be discussed during the public meeting:

• Matters Referred to the Committee from other Codex bodies.

• Matters Referred by FAO/WHO: Draft Action Plan for Implementation of the Global Strategy on Diet, Physical Activity and Health.

• Consideration of Labelling Provisions in Draft Codex Standards.

• Guidelines for the Production, Processing, Labelling and Marketing of Organically Produced Foods: Draft Revised Annex 2: Table 3, parts 1 & 2, Table 1, Natural Sodium Nitrate; Addition of Ethylene.

• Labelling of Foods and Food Ingredients Obtained through Certain Techniques of Genetic Modification/Genetic Engineering: Definitions and Labelling Provisions.

• Proposed Draft Amendment to the General Standard for the Labelling of Prepackaged Foods: Quantitative Declaration of Ingredients.

• Proposed Draft Definition of Advertising in Relation to Nutrition and Health Claims.

• Discussion Paper on Modified Standardized Common Names.

Each issue listed will be fully described in documents distributed, or to be distributed, by the Secretariat prior to the meeting. Members of the public may access or request copies of these documents (see ADDRESSES).

Public Meeting

At the April 10, 2007 public meeting, draft U.S. positions on the agenda items will be described, discussed, and attendees will have the opportunity to pose questions and offer comments. Written comments may be offered at the meeting or sent to the U.S. Delegate for CCFL, Dr. Barbara Schneeman (see ADDRESSES). Written comments should state that they relate to activities of the 35th Session of CCFL.

Additional Public Notification

Public awareness of all segments of rulemaking and policy development is important. Consequently, in an effort to ensure that minorities, women, and persons with disabilities are aware of this notice, FSIS will announce it on-line through the FSIS Web page located at http://www.fsis.usda.gov/regulations/2007_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC, on March 29, 2007.
F. Edward Scarbrough,
U.S. Manager for Codex Alimentarius.

[FR Doc. E7-6129 Filed 4-2-07; 8:45 am]

BILLING CODE 3410-DM-P